DEPARTMENT OF THE TREASURY

Internal Revenue Service

26 CFR Part 1

Income Taxes

CFR Correction

In Title 26 of the Code of Federal Regulations, § 1.1551 to end of part 1, revised as of April 1, 2017, on page 331, in § 1.6045-4, in paragraph (m), after the designation (1), the designation (i) is added.

[FR Doc. 2017-21741 Filed 10-5-17; 8:45 am]

BILLING CODE 1301-00-D